DEPARTMENT OF THE INTERIOR

National Park Service

[NPS-NER-19995, PPNEHATUC0, PPMRSCR1Y.CU0000 (166)]

Proposed Information Collection; National Underground Railroad Network to Freedom Program

AGENCY: National Park Service, Interior.

ACTION: Notice; request for comments.

SUMMARY: We (National Park Service) will ask the Office of Management and Budget (OMB) to approve the information collection described below. As required by the Paperwork Reduction Act of 1995 and as part of our continuing efforts to reduce paperwork and respondent burden, we invite the general public and other Federal agencies to take this opportunity to comment on this IC. This IC is scheduled to expire on July 31, 2016. We may not conduct or sponsor and a person is not required to respond to a collection of information unless it displays a valid OMB control number.

DATES: To ensure we are able to consider your comments, we must receive them on or before March 15, 2016.

ADDRESSES: Please send your comments on the ICR to Madonna L. Baucum, Information Collection Clearance Officer, National Park Service, 12201 Sunrise Valley Drive, Room 2C114, Mail Stop 242, Reston, VA 20192 (mail); or madonna_baucum@nps.gov (email). Please reference OMB Control Number “1024-0232, NPS National Underground Railroad Network to Freedom” in the subject line of your comments.

FOR FURTHER INFORMATION CONTACT: Diane Miller, National Manager, National Underground Railroad Network to Freedom Program, National Park Service, c/o Blackwater National Wildlife Refuge, 2145 Key Wallace Drive, Cambridge, Maryland 21613; or via email at diane_miller@nps.gov.

SUPPLEMENTARY INFORMATION:

I. Abstract

Public Law 105-203 (National Underground Railroad Network to Freedom Act of 1998) authorizes the Secretary of the Interior to establish the Network to Freedom (Network). The Network is a collection of sites, facilities, and programs, both governmental and nongovernmental, around the United States. All entities must have a verifiable association with the historic Underground Railroad movement. The National Park Service administers the National Underground Railroad Network to Freedom Program. The program coordinates preservation and education efforts Nationwide and integrates local historical places, museums, and interpretive programs associated with the Underground Railroad into a mosaic of community, regional, and national stories.

Individuals; businesses; organizations; State, tribal and local governments; and Federal agencies that want to join the Network must complete an application form. The application and instructions are available on our Web site at http://www.nps.gov/subjects/ugrr/index.htm. Respondents must (1) verify associations and characteristics through descriptive texts that are the result of historical research and (2) submit supporting documentation; e.g., copies of rare documents, photographs, and maps. Much of the information is submitted in electronic format and used to determine eligibility to become part of the Network.

Upon approval by OMB of this extension request, the NPS will begin developing a HTML version of the 10-946, “National Park Service National Underground Railroad Network to Freedom Application Form” on the Department of the Interior's Enterprise Forms System (EFS) Web site. The EFS will consolidate all internal forms used by the Department and external forms used by the public into a centralized automated forms program. This will increase efficiency and responsiveness through the centralization and automation of all Departmental forms. In addition, the forms process will be modernized through the implementation of a completely digital workflow, the integration of digital and electronic signatures, and the ability to utilize real-time workflow through the use of unified messaging.

One of the principal components of the Network to Freedom Program is to validate the efforts of local and regional organizations, and to make it easier for them to share expertise and communicate with us and each other. The vehicle through which this can happen is for these local entities to become Network Partners. Partners of the Network to Freedom Program work alongside and often in cooperation with us to fulfill the program's mission. Prospective partners must submit a letter with the following information:

• Name and address of the agency, company or organization;

• Name, address, and phone, fax, and email information of principal contact;

• Abstract not to exceed 200 words describing the partner's activity or mission statement; and

• Brief description of the entity's association to the Underground Railroad.

II. Data

OMB Number: 1024-0232.

Title: National Underground Railroad Network to Freedom Program.

Form(s): NPS Form 10-946, “National Park Service National Underground Railroad Network to Freedom Application Form”.

Type of Request: Extension of a currently approved collection of information.

Description of Respondents: Individuals; businesses; nonprofit organizations; and Federal, State, tribal, and local governments.

Respondent's Obligation: Required to obtain or retain a benefit.

Frequency of Collection: On occasion.

Activity | Number of respondents | Number of responses | Completion time per response (hours) | Total annual burden hours
Network Applications | 35 | 35 | 25 | 875
Partner Requests | 2 | 2 | .5 | 1
Totals | 37 | 37 | 26 | 876

Estimated Annual Nonhour Burden Cost: None.

III. Comments

We invite comments concerning this information collection on:

• Whether or not the collection of information is necessary, including whether or not the information will have practical utility;

• The accuracy of the burden for this collection of information;

• Ways to enhance the quality, utility, and clarity of the information to be collected; and

• Ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that it will be done.

Dated: January 11, 2016.
Madonna L. Baucum,
Information Collection Clearance Officer, National Park Service.

[FR Doc. 2016-00713 Filed 1-14-16; 8:45 am]

BILLING CODE 4310-EH-P